FEDERAL ACCOUNTING STANDARDS ADVISORY BOARD

Notice of Request for Candidates

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board (FASAB) is currently seeking candidates (candidates must not currently be federal employees) to serve as non-federal members of the FASAB.

FASAB is the body designated to establish generally accepted accounting principles for federal government entities. Generally, non-federal Board members are selected from the general financial community, the accounting and auditing community, or the academic community. Specifically, FASAB is particularly interested in candidates who have experience as:

• Analysts of financial information,

• Economists or forecasters,

• Academics,

• Auditors,

• Preparers of financial information, or

• Those otherwise knowledgeable regarding the use of financial information in decision-making.

The FASAB meets in Washington, DC, for two days every other month. Members are compensated based on current federal executive salaries. The member designated as chairperson of the board is typically compensated for 40-hours during each two-week pay period. Other members are typically compensated for 24 days per year. Travel expenses are reimbursed in accordance with federal travel regulations.

Responses may be submitted by email to paynew@fasab.gov or by fax to (202) 512-7366. Responses may also be sent to: Ms. Wendy Payne, Executive Director, Federal Accounting Standards Advisory Board, 441 G Street NW., (Mailstop 681H19), Washington, DC 20548.

Please submit your resume by September 15, 2014. Additional information about the FASAB can be obtained from its Web site at http://www.fasab.gov.

FOR FURTHER INFORMATION CONTACT: Wendy Payne, Executive Director, at (202) 512-7350.

Authority: Federal Advisory Committee Act, Pub. L. 92-463.

Dated: July 1, 2014.
Charles Jackson,
Federal Register Liaison Officer.

[FR Doc. 2014-15822 Filed 7-7-14; 8:45 am]

BILLING CODE 1610-02-P